DEPARTMENT OF COMMERCE

National Oceanic and Atmospheric Administration

50 CFR Part 622

[Docket No. 011015252-1252-01; I.D. 053001E]

RIN 0648-AO23

Fisheries of the Caribbean, Gulf of Mexico, and South Atlantic; Golden Crab Fishery off the Southern Atlantic States; Amendment 3

AGENCY: National Marine Fisheries Service (NMFS), National Oceanic and Atmospheric Administration (NOAA), Commerce.

ACTION: Proposed rule; request for comments.

SUMMARY: NMFS issues this proposed rule to implement Amendment 3 to the Fishery Management Plan for the Golden Crab Fishery of the South Atlantic Region (FMP). This rule would extend through December 31, 2002, the allowed use of cable for a mainline attached to golden crab traps; clarify the size of the required escape panel or door on a golden crab trap; remove the historical catch requirement for renewing a commercial vessel permit for golden crab; allow the issuance of a commercial vessel permit for golden crab for the southern zone for a vessel that held a valid permit for the southern zone in October 2000 but did not meet the 5,000-lb (2,268-kg) requirement for renewal in the following year; allow a vessel with a documented length overall greater than 65 ft (19.8 m) that is permitted to fish in the southern zone to fish also in the northern zone; allow two new commercial vessel permits to be issued for the northern zone; provide that a commercial vessel permit will not be renewed if the Regional Administrator (RA) does not receive an application for renewal by June 30 each year; liberalize the allowed increase in the size of a permitted vessel; create a small-vessel sub-zone in the southern zone in which only permitted vessels 65 feet (19.8 m) or less in length may fish for golden crab but may not do so in the remainder of the southern zone; and add measures related to the proposed sub-zone to the list of management measures that may be modified via the FMP's framework procedure for regulatory adjustments. The intended effect is to protect the golden crab resource while allowing development of the fishery that is dependent on that resource.

DATES: Comments on this proposed rule must be received no later than 5 p.m., eastern time, on January 11, 2002.

ADDRESSES: Written comments on this proposed rule must be mailed to the Regional Administrator, Southeast Region, NMFS, 9721 Executive Center Drive N., St. Petersburg, FL 33702. Comments also may be sent via fax to 727-570-5583. Comments will not be accepted if submitted via e-mail or the Internet.

Copies of Amendment 3, including the environmental assessment, regulatory impact review, and social impact assessment/fishery impact statement may be obtained from Dr. Peter J. Eldridge, Southeast Regional Office, NMFS, 9721 Executive Center Drive N., St. Petersburg, FL 33702, phone: 727-570-5305; fax: 727-570-5583; e-mail: Peter.Eldridge@noaa.gov.

Written comments regarding the burden-hour estimates or other aspects of the collection-of-information requirements contained in this rule may be submitted to Robert Sadler, Southeast Regional Office, NMFS, 9721 Executive Center Drive N., St. Petersburg, FL 33702, and to the Office of Information and Regulatory Affairs, Office of Management and Budget (OMB), Washington, DC 20503 (Attention: NOAA Desk Officer).

FOR FURTHER INFORMATION CONTACT: Dr. Peter J. Eldridge, Southeast Regional Office, NMFS; phone: 727-570-5305; fax: 727-570-5583; e-mail: Peter.Eldridge@noaa.gov.

SUPPLEMENTARY INFORMATION: The golden crab fishery off the southern Atlantic states is managed under an FMP that was prepared by the South Atlantic Fishery Management Council (Council) and implemented under the authority of the Magnuson-Stevens Fishery Conservation and Management Act (Magnuson-Stevens Act) by regulations at 50 CFR part 622.

Use of Wire Cable for Mainlines

The use of cable for mainlines in the South Atlantic golden crab fishery was authorized for an initial trial period when the FMP was implemented in 1996. The trial period was later renewed for an additional period of 20 months. This trial period was instituted at the request of the industry based on possible advantages in handling cable versus rope. One of the original concerns regarding cable used for mainlines was the potential for gear conflicts when it is used in an area where rope mainlines are deployed. The extended trial period, which ended December 31, 2000, was intended to assess that concern. Use of cable has been infrequent; no vessels were using it when the trial period ended, but some vessel owners and/or operators expressed interest in exploring its use. Authorizing the use of cable for mainlines for an additional trial period through December 31, 2002, would facilitate further evaluation of its possible involvement in gear conflicts versus its potential economic benefits for fishermen.

Modification of Escape Panels or Doors

All golden crab traps constructed of material other than webbing are currently required to have an escape panel or door measuring at least 12 by 12 inches (30.5 by 30.5 cm). The purpose of the escape panel or door is to allow golden crabs to escape from traps and reduce crab mortality from lost or ghost traps that continue to trap fish. Golden crab traps are constructed of 2-inch (5.1-cm) mesh. Cutting an opening 6 meshes by 6 meshes would appear to meet the minimum size requirement. However, because of the diameter of the wire mesh, an opening of 6 meshes by 6 meshes is slightly smaller than the size that is required, and an opening 7 meshes by 7 meshes weakens the trap. To accommodate these concerns, the size would be revised to require an escape panel or door of at least 11 7/8 by 11 7/8 inches (30.2 by 30.2 cm). This reduced size would not materially lessen the ability of a golden crab to escape.

Removal of the Minimum Required Harvest Level for Permit Renewal

Currently, for a golden crab vessel permit to be renewed, at least 5,000 lb (2,268 kg) of golden crab from the South Atlantic exclusive economic zone (EEZ) must have been landed by the permitted vessel during at least one of the two 12-month periods immediately prior to the expiration date of the permit. This requirement was intended to reduce the number of permits, particularly in the southern zone. Due in part to this minimum required harvest level, the number of participants in the fishery in the southern zone has been significantly reduced. There are currently zero participants in the northern zone. The Council concluded that because of the low number of participants, the minimum required harvest level for permit renewal is no longer necessary. In fact, if participation in the fishery is reduced, it may result in a negative impact on the economic viability of the fishery. To support the market structure for golden crab that has been developed, a certain level of landings must be maintained.

Additional Permits for the Southern Zone

As discussed above, participation in the fishery is currently at a low level. Some of the vessel owners who initially participated in the fishery in the southern zone have not met the minimum required harvest level for permit renewal in the last two years because of more lucrative alternative fisheries and/or gear conflicts within the golden crab fishery. To benefit the economic viability of the fishery, this rule proposes to issue, upon application, a commercial vessel permit for the southern zone for any vessel submitting an appropriate application if that vessel held a valid permit for the southern zone in October 2000 but did not meet the 5,000-lb (2,268-kg) requirement for renewal for the following permit year beginning November 1, 2000. In order to be considered, an application for a permit under this provision would have to be received by the RA no later than 60 days after the date of publication of the final rule containing this provision.

Additional Fishing in the Northern Zone

Currently, there are no permits issued for vessels in the northern zone. Due to the lack of fisheries effort in the northern zone, information on the population of golden crab in this zone is limited. Additional information would contribute to determining more accurately the maximum sustainable yield (MSY) of golden crab.

Accordingly, this rule would allow a vessel with a documented length overall greater than 65 ft (19.8 m) (large vessel) that is permitted for the southern zone to fish also in the northern zone. This opportunity for these large vessels to fish in the northern zone would expire 3 years after the final rule to implement this measure becomes effective. This opportunity to fish in the northern zone would require a change in a large vessel's permit from the southern zone to the northern zone only if the vessel owner desires to transfer the permit to a vessel whose documented length overall was greater than 20 percent more than the replaced vessel. See “Less Restrictive Limit on Vessel Size Increases” below for additional information on transfer of a permit to a vessel of greater length and limited provisions for a change of zone back to the southern zone. The currently available option for the owner of a vessel of any length to change zones to the northern zone would remain in effect, thus allowing a permanent change to the northern zone for a large vessel after the 3-year period expires.

In addition, this rule would allow NMFS to issue up to two new permits for the northern zone. Offers for the two new permits would be made to the individuals on the list of historical participants in the South Atlantic golden crab fishery that was used at the October 1995 meeting of the Council, less those on the list who originally received permits. Placement on the list was based on pounds of golden crab landed, without reference to a specific zone. Offers will be made in writing to individuals highest on the list until two accept and apply for permits. A maximum of 30 days would be allowed for acceptance of such an offer and, if accepted, an application would be required to be received by the RA within 30 days of acceptance. A vessel permit for the northern zone issued under this provision, and any successor permit, could not be changed to another zone. Any successor permit would include a permit issued to that vessel for a subsequent owner and a permit issued via transfer from that vessel to another vessel.

The proposed increased effort in the northern zone would not be expected to result in overfishing in that zone.

Less Restrictive Limit on Vessel Size Increases

Currently, to obtain a permit by transfer of an existing permit, the owner of the receiving vessel must acquire a permit from a vessel with a documented length overall, or permits from vessels with aggregate lengths overall, of at least 90 percent of the documented length overall of the receiving vessel. The Council proposes to ease this restriction. Accordingly, this rule would allow the transfer of a permit or permits for transfer to a replacement vessel whose documented length overall is up to 20 percent more than the documented length overall of the currently permitted vessel(s). For example, permits for vessels whose documented lengths overall totaled 80.0 ft (24.4 m) could be used to obtain a permit for a vessel with documented length overall of up to 96.0 ft (29.3 m) (80.0 + [.20 x 80.0] = 96.0).

The Council believes this measure is desirable for the added safety that generally is associated with the use of larger vessels and for the possible economic benefits of operating from larger vessels. The Council further believes that the increased harvesting capacity that generally occurs when using larger vessels will not jeopardize the continued viability of the fishery.

Because of the harsher weather conditions prevalent in the northern zone and the paucity of vessels permitted in that zone, the proposed limitation on transfers described above would not apply to vessels with permits to fish in the northern zone. To avail oneself of this exemption in the northern zone (i.e., upgrade by more than 20 percent), an owner of a vessel that is permitted for the southern zone would have to request a permit change to the northern zone and would be allowed to change the permit back to the southern zone only by transferring the permit to a vessel with a documented length overall no greater than 20 percent more than the vessel whose permit was originally changed from the southern zone to the northern zone. A request for a change back to the southern zone would have to be received by the RA no later than 3 years after the final rule to implement this measure becomes effective.

Permit Renewals

This rule would provide that NMFS will not renew a permit for golden crab if the RA does not receive an application for renewal by June 30 each year, that is, within 6 months into the fishing year. The Council believes that this 6-month period provides adequate time for a vessel owner to decide whether to continue in the fishery, thus providing the Council advance information necessary to effectively manage the fishery and achieve the stated objectives of the FMP. A specific deadline for renewal would also relieve NMFS of the administrative burden of keeping track of all possible future participants in the fishery.

Small-vessel Sub-zone

This rule would create a sub-zone in the southern zone. The sub-zone would be approximately 22 nautical miles (nm) south of Key West, Florida, and encompass an area of approximately 8 by 30 nm. No vessel with a documented length overall greater than 65 ft (19.8 m) would be allowed to fish for golden crab in this sub-zone, and a vessel with a documented length overall of 65 ft (19.8 m) or less that is permitted for the southern zone would be allowed to fish for golden crab only in this sub-zone. The creation of a small-vessel sub-zone would address reported conflicts between large and small vessels in the southern zone, which have resulted in gear and other economic losses. The Council intends that the sub-zone would exist for a minimum of 3 years, during which time the Council would monitor harvest data from the sub-zone and other information to determine benefits of the sub-zone and alternatives for future action.

Framework Procedure

In accordance with the FMP, certain items related to the management of golden crab may be established or modified via a framework procedure that enables more timely implementation than is possible via an amendment to the FMP. This proposed rule would add the sub-zone in the southern zone to the items for which the framework procedure is applicable. Changes to the sub-zone would include, but not be limited to, the size, timeframe, seasonality, repealing, and eligibility requirements.

Additional Measures in Amendment 3

In addition to the measures described above for the management of golden crab, in Amendment 3 the Council proposed to establish: MSY; maximum fishing mortality threshold (MFMT), the fishing mortality rate which, if exceeded, constitutes overfishing; and minimum stock size threshold (MSST), the stock size below which golden crab are overfished. The Council's proposals are as follows:

MSY—between 4 and 12 million lbs (1,814 and 5,443 metric tons).

MFMT—a fishing mortality rate that is in excess of the fishing mortality rate that produces MSY.

MSST—a ratio of either current biomass to biomass at MSY (BMSY) or one minus the natural mortality rate (1 - M) times BMSY, where 1 - M should never be less than 0.5.

Data for golden crab are very limited and available resources within NMFS do not allow sufficient data collection. Accordingly, the specification of MSY covers a broad range and MFMT and MSST lack numerical specificity. Specificity will be added as data become available. In its “Report to Congress—Status of Fisheries of the United States,” January 2001, NMFS concluded that overfishing was not occurring in the golden crab fishery. The FMP does not contain a definition of “overfished” at this time.

Partial Approval of Amendment 3—Disapproval of Proposed MSY

On September 12, 2001, NMFS partially approved Amendment 3. NMFS approved all provisions of Amendment 3 except the proposed MSY, 4 to 12 million lb (1.8 to 5.4 million kg). Based on the best available scientific information, including results of the most recent stock status evaluation, NMFS concluded that the proposed MSY was risk prone and could lead to overfishing.

Availability of Amendment 3

Additional background and rationale for the measures discussed above are contained in Amendment 3. The availability of Amendment 3 was announced in the Federal Register on June 12, 2001 (66 FR 31608). Written comments on Amendment 3 were invited through August 13, 2001. No public comments were received. All comments received on this proposed rule during the public comment period will be addressed in the preamble to the final rule.

Classification

NMFS has determined that Amendment 3, except for the disapproved MSY, is consistent with the national standards of the Magnuson-Stevens Act and other applicable laws.

This proposed rule has been determined to be not significant for purposes of E.O. 12866.

The Chief Counsel for Regulation of the Department of Commerce has certified to the Chief Counsel of Advocacy of the Small Business Administration that this proposed rule, if adopted, would not have a significant economic impact on a substantial number of small entities as follows:

The Magnuson-Stevens Act provides the statutory basis for the rule. The proposed rule will not require any new reporting or record keeping on the part of the commercial entities. No duplicative, overlapping or conflicting Federal rules have been identified. The objectives of the proposed rule are: to stabilize yield and maintain population levels sufficient to ensure adequate recruitment; provide a flexible management system; and optimize the social and economic benefits of the golden crab fishery.

Although no participant in the golden crab fishery currently utilizes cable mainlines, they have been successfully used in other fisheries and interest in their use has been expressed by fishery participants. Such interest is due to the fact that some participants already possess this gear for use in other fisheries in which they participate. Fishermen who do not already possess cable gear can choose to obtain it or continue using gear they already possess. Extending the period for allowed use of cable, therefore, will allow operators to utilize potentially more cost- efficient gear, leading to reduced gear-up costs and gear-storage safety gains. The proposed specification of the size of the required escape panel will bring the specification in line with the current dimensions of manufactured mesh. This will reduce enforcement conflict between fishermen and enforcement officers. Elimination of the historical catch requirement will allow historical small-scale participants to remain in the fishery, which will in turn allow for a more stable level of participation as well as product supply to maintain current markets. Allowing the southern-permitted vessels to fish in the northern zone will also assist in achieving this objective. Allowing vessels to increase their size will better fit the safety requirements of their fishery. The creation of a small-vessel sub-zone in the southern zone will reduce vessel conflicts between the large and small vessels, thereby reducing the gear and revenue losses attributed to these conflicts. Between 1997 and 2000, no commercial vessels have operated in the northern zone. Therefore, allowing two new commercial vessel permits to be issued for the northern zone may lead to increased harvests and revenues, and result in better maintenance of a consistent supply of golden crab to the market. Expanding the list of management measures that may be modified via the FMP's framework procedure will result in a more efficient functioning of the management process.

Generally, a fish-harvesting business is considered a small business if it is independently owned and operated and not dominant in its field of operation and if it has annual receipts not in excess of $3.0 million. Business operations in the golden crab fishery consist solely of small business entities. This conclusion is based on the following facts. In 1997, gross revenues from the golden crab fishery in the Southeast region were approximately $1.22 million, of which slightly more than $943,000 came from the South Atlantic. Based on preliminary data for 2000, gross revenues from the golden crab fishery in the Southeast region were approximately $1.04 million, of which slightly more than $858,000 came from the South Atlantic. In 1997, small vessels (65 ft (19.8 m) and below in overall length) accounted for 78 percent of the gross revenues from the Southeast region and 91 percent of the gross revenues from the South Atlantic. In 2000, these percentages were slightly less, at 69 percent and 83 percent, respectively. For small vessels participating in the South Atlantic fishery, average gross revenue from golden crab harvests ranged from a low of $78,267 in 1997 to a high of $163,543 in 1999.

The number of participants that will be affected by the proposed rule is estimated to be between 8 and 12 commercial vessels. In 1997, the year for which participation was the highest, 13 vessels were active in the South Atlantic golden crab fishery. However, based on preliminary data for 2000, there were only 8 active vessels in this fishery. Between 1997 and 2000, less than five large vessels participated in the fishery, while the number of small vessels did not exceed 12. In 2000, 38 percent of the vessels (large and small) generated approximately 95 percent of the gross revenues from the South Atlantic golden crab fishery.

Elimination of the minimum harvest requirement may attract some of the vessels that were eligible for renewal in 2000, but failed to meet the minimum landings requirement in effect at that time. Two vessels could re-enter the fishery as a result of eliminating the minimum harvest requirement. Additionally, two new permits for the northern zone could be issued to vessels that were on the original list of those interested in entering the fishery but excluded from the original permit distribution. As a result of the existing rules and proposed rule changes, a maximum of 12 commercial vessels will be allowed to participate in the South Atlantic golden crab fishery.

The determination of significant economic impact can be ascertained by examining two criteria, disproportionality and profitability. The disproportionality question is: do the regulations place a substantial number of small entities at a significant competitive disadvantage to large entities? Although some variation exists between vessel lengths and degree of participation in the fishery, all are classified as small entities. Thus, the issue of disproportionality is irrelevant in the present case.

The profitability question is: do the regulations significantly reduce profit for a substantial number of small entities? In 1997, 100 percent of the large vessels’ South Atlantic and 32 percent of their total golden crab revenues came from the sub-zone. However, based on the preliminary 2000 data, the vast majority of their gross revenues presently come from the remainder of the southern zone (43 percent) and the Gulf (56 percent). The large vessels would only lose 0.9 percent of their total golden crab revenues as a result of being excluded from the sub-zone. With respect to the South Atlantic component of the fishery, all large vessels have only been permitted to operate in the Southern zone. For small vessels permitted to operate only in the Southern zone, 49 percent of their total golden crab revenues in 1997 came from the southern zone outside the sub-zone. In 2000, this percentage decreased to 28 percent. Even though the latter percentage appears to still be large, it represents a very small dollar figure in absolute terms. This absolute figure cannot be provided for confidentiality reasons. Since the absolute figure is trivial, small vessels will easily be able to compensate for this loss via a minimal increase in their sub-zone activity.

Since profits must necessarily be less than gross revenues, the creation of the sub-zone would not significantly reduce profits for either the large or small vessels. And as the other proposed regulations are expected to either decrease costs, increase revenues, or have no effect on the fishery participants, no small entities are expected to experience any significant and adverse economic impacts as a result of this rule. On this basis, the proposed rule may be adjudged not to have a significant economic impact on a substantial number of small entities.

Accordingly, a regulatory flexibility analysis was not prepared.

Notwithstanding any other provision of law, no person is required to respond to, nor shall a person be subject to a penalty for failure to comply with, a collection of information subject to the requirements of the PRA unless that collection of information displays a currently valid OMB control number.This rule contains but does not change two collection-of-information requirements subject to the Paperwork Reduction Act (PRA); namely, the application for a permit for the South Atlantic golden crab fishery and the submission of fishing vessel logbooks in that fishery. These collections of information have been approved by OMB under control numbers 0648-0205 and 0648-0016, respectively. The public reporting burdens for these collections of information are estimated at 20 minutes for each permit application and 10 minutes for each fishing vessel logbook submission. The estimates of public reporting burdens for these collections of information include the time for reviewing instructions, searching existing data sources, gathering and maintaining the data needed, and completing and reviewing the collection of information. Send comments regarding these burden estimates or any other aspects of the collections of information, including suggestions for reducing the burdens, to NMFS and OMB (see ADDRESSES).

List of Subjects in 50 CFR Part 622

Fisheries, Fishing, Puerto Rico, Reporting and recordkeeping requirements, Virgin Islands.

Dated: November 20, 2001.
William T. Hogarth,
Assistant Administrator for Fisheries, National Marine Fisheries Service.

For the reasons set out in the preamble, 50 CFR part 622 is proposed to be amended as follows:

PART 622—FISHERIES OF THE CARIBBEAN, GULF, AND SOUTH ATLANTIC

1. The authority citation for part 622 continues to read as follows:

Authority: 16 U.S.C. 1801 et seq.

2. In § 622.7, paragraph (z) is revised to read as follows:

§ 622.7 Prohibitions.

* * * * *

(z) Fish for or possess golden crab in or from a fishing zone or sub-zone of the South Atlantic EEZ other than the zone or sub-zone for which the vessel is permitted or authorized, as specified in § 622.17(b).

* * * * *

3. Section 622.17 is revised to read as follows:

§ 622.17 South Atlantic golden crab controlled access.

(a) General. In accordance with the procedures specified in the Fishery Management Plan for the Golden Crab Fishery of the South Atlantic Region, initial commercial vessel permits have been issued for the fishery. All permits in the fishery are issued on a fishing-year (calendar-year) basis. No additional permits may be issued except as follows:

(1) For the southern zone. (i) Upon application, the RA will reissue a permit for the southern zone for a vessel that held a valid permit for that zone in October 2000 but did not meet the 5,000-lb (2,268-kg) requirement for renewal in the following year.

(ii) An application for a permit under paragraph (a)(1) of this section must be received by the RA no later than 60 days after the date of publication of the final rule containing this paragraph.

(2) For the northern zone. (i) The RA will issue up to two new vessel permits for the northern zone. Selection will be made from the list of historical participants in the South Atlantic golden crab fishery. Such list was used at the October 1995 meeting of the South Atlantic Fishery Management Council and was prioritized based on pounds of golden crab landed, without reference to a specific zone. Individuals on the list who originally received permits will be deleted from the list.

(ii) The RA will offer in writing an opportunity to apply for a permit for the northern zone to the individuals highest on the list until two accept and apply in a timely manner. An offer that is not accepted within 30 days after it is received will no longer be valid.

(iii) An application for a permit from an individual who accepts the RA's offer must be received by the RA no later than 30 days after the date of the individual's acceptance. Application forms are available from the RA.

(iv) A vessel permit for the northern zone issued under paragraph (a)(2) of this section, and any successor permit, may not be changed to another zone. A successor permit includes a permit issued to that vessel for a subsequent owner and a permit issued via transfer from that vessel to another vessel.

(b) Fishing zones—(1) Designation of fishing zones. The South Atlantic EEZ is divided into three fishing zones for golden crab as follows:

(i) Northern zone—the South Atlantic EEZ north of 28° N. lat.

(ii) Middle zone—the South Atlantic EEZ from 28° N. lat. to 25° N. lat.

(iii) Southern zone—the South Atlantic EEZ south of 25° N. lat.

(2) Authorization to fish in zones. Each vessel permit indicates one of the zones specified in paragraph (b)(1) of this section. A vessel with a permit to fish for golden crab in the northern zone or the middle zone may fish only in that zone. A vessel with a documented length overall greater than 65 ft (19.8 m) with a permit to fish for golden crab in the southern zone may fish in that zone, consistent with the provisions of paragraph (b)(3) of this section, and, through a date 3 years from the date this paragraph is effective, may also fish in the northern zone. A vessel may possess golden crab only in a zone in which it is authorized to fish, except that other zones may be transited if the vessel notifies NMFS, Office of Enforcement, Southeast Region, St. Petersburg, FL, by telephone (727-570-5344) in advance and does not fish in a zone in which it is not authorized to fish.

(3) Small-vessel sub-zone. Within the southern zone, a small-vessel sub-zone is established bounded on the north by 24°15′ N. lat., on the south by 24°07′ N. lat., on the east by 81°22′ W. long., and on the west by 81°56′ W. long. No vessel with a documented length overall greater than 65 ft (19.8 m) may fish for golden crab in this sub-zone, and a vessel with a documented length overall of 65 ft (19.8 m) or less that is permitted for the southern zone may fish for golden crab only in this sub-zone.

(4) Procedure for changing zones. (i) Upon request from an owner of a permitted vessel, the RA will change the zone specified on a permit from the middle or southern zone to the northern zone. No other changes in the zone specified on a permit are allowed, except as specified in paragraph (b)(4)(ii) of this section. An owner of a permitted vessel who desires a change to the northern zone must submit his/her request with the existing permit to the RA.

(ii) Through a date 3 years after the date this paragraph (b)(4) is effective, upon request, the RA will change a vessel permit back to the southern zone for an owner of a vessel, or the subsequent owner of a vessel, whose permit was changed from the southern zone to the northern zone provided that the documented length overall of the vessel to be used in the southern zone is not more than 20 percent greater than the vessel whose permit was originally changed from the southern zone to the northern zone.

(c) Transferring permits between vessels—(1) Procedure for transferring. An owner of a vessel who desires a golden crab permit may request that NMFS transfer an existing permit or permits to his or her vessel by returning an existing permit or permits to the RA with an application for a permit for the replacement vessel.

(2) Vessel size limitations on transferring. (i) To obtain a permit for the middle or southern zone via transfer, the documented length overall of the replacement vessel may not exceed the documented length overall, or aggregate documented lengths overall, of the replaced vessel(s) by more than 20 percent. The owner of a vessel permitted for the middle or southern zone who has requested that NMFS transfer that permit to a smaller vessel (i.e., downsized) may subsequently request NMFS transfer that permit to a vessel of a length calculated from the length of the permitted vessel immediately prior to downsizing.

(ii) There are no vessel size limitations to obtain a permit for the northern zone via transfer.

(d) Permit renewal. NMFS will not renew a commercial vessel permit for South Atlantic golden crab if the permit is revoked or if the RA does not receive an application for renewal within 6 months after the permit's expiration, that is, by June 30 each year. See § 622.4(h) for the general procedures and requirements for permit renewals.

4. In § 622.40, the first sentence of paragraph (b)(3)(ii)(B) and paragraph (d)(2)(ii) are revised to read as follows:

§ 622.40 Limitations on traps and pots.

* * * * *

(b) * * *

(3) * * *

(ii) * * *

(B) A golden crab trap constructed of material other than webbing must have an escape panel or door measuring at least 11 7/8 by 11 7/8 inches (30.2 by 30.2 cm), located on at least one side, excluding top and bottom. * * *

* * * * *

(d) * * *

(2) * * *

(ii) Rope is the only material allowed to be used for a buoy line or mainline attached to a golden crab trap, except that wire cable is allowed for a mainline through December 31, 2002.

5. In § 622.48, paragraph (g) is revised to read as follows:

§ 622.48 Adjustment of management measures.

* * * * *

(g) South Atlantic golden crab. Biomass levels, age-structured analyses, MSY, ABC, TAC, quotas (including quotas equal to zero), trip limits, minimum sizes, gear regulations and restrictions, permit requirements, seasonal or area closures, sub-zones and their management measures, time frame for recovery of golden crab if overfished, fishing year (adjustment not to exceed 2 months), observer requirements, authority for the RA to close the fishery when a quota is reached or is projected to be reached, definitions of essential fish habitat, and essential fish habitat HAPCs or Coral HAPCs.

* * * * *

[FR Doc. 01-29494 Filed 11-26-01; 8:45 am]

BILLING CODE 3510-22-S